DEPARTMENT OF LABOR

Occupational Safety and Health Administration

29 CFR Parts 1910, 1915, and 1926

[Docket No. OSHA-2010-0034]

RIN 1218-AB70

Occupational Exposure to Respirable Crystalline Silica

Correction

In rule document 2016-04800 appearing on pages 16285-16890 in the issue of March 25, 2016, make the following corrections:

§ 1910.1000 [Corrected]

(1) On pages 16861-16862, in § 1910.100, Table Z-3—Mineral Dusts is corrected to read as set forth below:

* * * * *

§ 1915.1000 [Corrected]

(2) On page 16875, in § 1910.100, Table Z—Shipyards is corrected to read as set forth below:

* * * * *

§ 1926.55 [Corrected]

(3) On pages 16875-16876, in § 1926.55, the table titled “Threshold Limit Values of Airborne Contaminants for Construction” is corrected to read as set forth below:

* * * * *

[FR Doc. C1-2016-04800 Filed 5-17-16; 8:45 am]

BILLING CODE 1505-01-D